NUCLEAR REGULATORY COMMISSION

10 CFR Part 51

Policy Statement on the Treatment of Environmental Justice Matters in NRC Regulatory and Licensing Actions; Environmental Justice Strategy

AGENCY: Nuclear Regulatory Commission.

ACTION: Policy statement; withdrawal.

SUMMARY: The U.S. Nuclear Regulatory Commission (NRC) is withdrawing its Policy Statement on the Treatment of Environmental Justice Matters in NRC Regulatory and Licensing Actions (Environmental Justice Policy Statement) and its Environmental Justice Strategy. The NRC is withdrawing these documents to reflect a recent executive order on Environmental Justice.

DATES: Effective April 30, 2025, the NRC withdraws the Environmental Justice Policy Statement published at 69 FR 52040 on August 24, 2004, and Environmental Justice Strategy.

ADDRESSES: You may obtain publicly available information related to this action by any of the following methods. Address questions about NRC dockets to: Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Maxwell C. Smith, Office of the General Counsel, U.S. Nuclear Regulatory Commission, Washington, DC 20555-0001; telephone: 301-415-1856, email: Maxwell.Smith@nrc.gov.

SUPPLEMENTARY INFORMATION: The NRC's Policy Statement on the Treatment of Environmental Justice Matters in NRC Regulatory and Licensing Actions (Environmental Justice Policy Statement) and Environmental Justice Strategy reflected the NRC's voluntary commitments on environmental justice (69 FR 52040). The NRC made these commitments in response to the policies stated in Executive Order 12898, Federal Actions to Address Environmental Justice in Minority Populations and Low-Income Populations (59 FR 7629). The Environmental Justice Policy Statement recognized that the NRC primarily considered Environmental Justice through its reviews under the National Environmental Policy Act of 1969 (NEPA), 42 U.S.C. 4321 et seq. On January 21, 2025, the President issued Ending Illegal Discrimination and Restoring Merit-Based Opportunity, Executive Order No. 14173, which rescinded Executive Order 12898 (90 FR 8339). Therefore, the NRC is withdrawing its Environmental Justice Policy Statement and Environmental Justice Strategy. The NRC will continue to ensure that it fully meets its obligations under NEPA.

Dated: April 25, 2025.
For the Nuclear Regulatory Commission.
Carrie Safford,
Secretary of the Commission.

[FR Doc. 2025-07449 Filed 4-29-25; 8:45 am]

BILLING CODE 7590-01-P